DEPARTMENT OF JUSTICE

Antitrust Division

Notice Pursuant to the National Cooperative Research and Production Act of 1993—Portland Cement Association

Notice is hereby given that, on March 5, 2002, pursuant to section 6(a) of the National Cooperative Research and Production Act of 1993, 15 U.S.C. 4301 et seq. (“the Act”), Portland Cement Association has filed written notifications simultaneously with the Attorney General and the Federal Trade Commission disclosing changes in its membership status. The notifications were filed for the purpose of extending the Act's provisions limiting the recovery of antitrust plaintiffs to actual damages under specified circumstances. Specifically, National Cement Company of California, Encino, CA; National Cement Company of Alabama, Birmingham, AL; Eastern Cement Corporation, West Palm Beach, FL; and Fuller Bulk Handling, Bethlehem, PA have resigned from PCA; and Giant Cement Holding, Inc., Summerville, SC has become a member. Also, Lehigh Portland Cement Company, Allentown, PA has changed its name to Lehigh Cement Company; Calaveras Cement Company, Concord, CA has changed its name to Lehigh Southwest Cement Company; Tilbury Cement Company, Seattle, WA has changed its name to Lehigh Northwest Cement Company; Tilbury Cement Limited, Delta, British Columbia, CANADA has changed its name to Lehigh Northwest Cement Limited; and Svedala Industries, Inc., York, PA (an Associate Member) has changed its name to Metso Minerals.

No other changes have been made in either the membership or planned activity of the group research project. Membership in this group research project remains open, and Portland Cement Association intends to file additional written notification disclosing all changes in membership.

On January 7, 1985, Portland Cement Association filed its original notification pursuant to Section 6(a) of the Act. The Department of Justice published a notice in the Federal Register pursuant to section 6(b) of the Act on February 5, 1985 (50 FR 5015).

The last notification was filed with the Department on January 30, 2002. A notice has not yet been published in the Federal Register.

Constance K. Robinson,
Director of Operations, Antitrust Division.

[FR Doc. 02-8118 Filed 4-3-02; 8:45 am]

BILLING CODE 4310-11-M